CHEMICAL SAFETY AND HAZARD INVESTIGATION BOARD

Notice of Amendment to Agenda for November 23, 2015, Sunshine Act Meeting, Previously Announced in the Board's Notice of November 6, 2015

The Chemical Safety and Hazard Investigation Board (CSB) will convene a public meeting on November 23, 2015, starting at 1:00 p.m. EST in Washington, DC, at the CSB offices located at 1750 Pennsylvania Avenue NW., Suite 910. The agenda for this meeting is amended to include discussion about future public meetings about worker fatigue and Process Safety Management. It is also amended to include a staff presentation and Board vote on a recommendation to the BP Global Executive Board of Directors to implement an incident reporting program. In 2012, a CSB staff evaluation of BP's actions taken in response to that recommendation was calendared for discussion in a public setting. The recommendation was issued as part of the investigation report of the BP America Refinery explosion in Texas City, Texas, in March 2005, and a vote on the status of that recommendation was tabled at the Board's July 22, 2015, public meeting. An opportunity for public comment will be provided prior to Board vote on the status of this recommendation.

Dated: November 16, 2015.
Kara Wenzel,
Acting General Counsel, Chemical Safety and Hazard Investigation Board.

[FR Doc. 2015-29593 Filed 11-16-15; 4:15 pm]

BILLING CODE 6350-01-P